DEPARTMENT OF TRANSPORTATION

Office of the Secretary of Transportation

[Docket Nos. OST-2007-0004, FHWA-2007-0004, and FTA-2007-0004]

Solicitation of Applications for Funding of Congestion-Reduction Demonstration Initiatives

AGENCIES: Office of the Secretary of Transportation (“OST”); Federal Highway Administration (“FHWA”); Federal Transit Administration (“FTA”), Department of Transportation (“DOT”).

ACTION: Notice of solicitation for applications to enter into agreements with the U.S. Department of Transportation (the “Department”) for funding under any or all of the following programs (collectively, the “Funding Programs”) to support qualified congestion-reduction demonstration initiatives: (i) FHWA's Delta Region Transportation Development Program (§ 1308 of Public Law 109-59) (the “Delta Region Program”); (ii) FHWA's Ferry Boat Discretionary Program (23 U.S.C. 147) (the “Ferry Boat Program”); (iii) FHWA's Highways for Life Pilot Program (§ 1502 of Public Law 109-59) (the “HfL Program”); (iv) FHWA's Innovative Bridge Research and Deployment Program (23 U.S.C. 503(b)) (the “Innovative Bridge Program”); (v) FHWA's Interstate Maintenance Discretionary Program (23 U.S.C. 118(c)) (the “IMD Program”); (vi) FHWA's Public Lands Highway Discretionary Program (23 U.S.C. 202-204) (the “Public Lands Program”); (vii) FHWA's Transportation, Community, and System Preservation Program (§ 1117 of Public Law 109-59) (the “TCSP Program”); (viii) FHWA's Truck Parking Facilities Pilot Program (§ 1305 of Public Law 109-59) (the “Truck Parking Program”); (ix) FTA's capital program for Bus and Bus-Related Facilities (49 U.S.C. 5309) (the “Bus Program”); (x) FTA's capital program for New Fixed Guideway Facilities, including “Small Starts” projects (49 U.S.C. 5309, 49 U.S.C. 5309(e)) (the “Small Starts Program”); (xi) FTA's Alternatives Analysis Program (49 U.S.C. 5339); and (xii) any other discretionary program administered by the Department and designated by the Secretary as a source of funding under such agreements.

SUMMARY: This Notice solicits proposals to enter into certain agreements with the U.S. Department of Transportation (the “Department”). Through these agreements, the Department intends to support congestion pricing along with complementary transportation solutions proposed by jurisdictions designated as recipients of Federal assistance in accordance with this Notice (each, a “qualified jurisdiction”). Funds made available by the Department to qualified jurisdictions may include such sums as may be available for obligation in the Department's discretion during Fiscal Year 2008, including funds designated by law to support the Department's Congestion Initiative, as proposed in the President's Fiscal Year 2008 Budget. ¹

¹ Budget of the United States Government, Fiscal Year 2008 (http://www.whitehouse.gov/omb/budget/fy2008/transportation.html).

The Department reserves the right to solicit candidates for funding described herein by means other than this Notice. The Department expects to implement the procedures and criteria set forth in this Notice; however, such procedures and criteria shall not be binding on the Department.

DATES: Applicants wishing to become qualified jurisdictions must submit their applications on or before December 31, 2007. Late-filed applications will be considered to the extent practical. The Department intends to announce agreements with qualified jurisdictions in Fiscal Year 2008.

ADDRESSES: Applicants wishing to become qualified jurisdictions may file their applications electronically via e-mail to Thomas M. McNamara at thomas.mcnamara@dot.gov or through “grants.gov” at http://www.grants.gov. (Please note that solely for purposes of this solicitation, the Department prefers, but does not require, submission of applications by means of the e-mail address above). In the event that either of the forgoing options for submission would impose a hardship on an applicant, the applicant may request an exception by email to the email address above. If an exception is granted, the applicant may send a single copy of its application by U.S. Post or express mail to: Thomas M. McNamara, Office of the Assistant Secretary for Transportation Policy, U.S. Department of Transportation, 1200 New Jersey Ave., SE., W84-322, Washington, DC 20590. The Department shall only deem applications received via email or through grants.gov (or by U.S. Post or express mail pursuant to an exception) as provided above to be properly filed with the Department. The Department shall deem a single application filed pursuant to this Notice to be properly filed with each of the Funding Programs identified therein, and will not require separate applications to each such program, unless the Department determines otherwise in its discretion. Before using grants.gov for the first time, each organization must register and create an institutional profile at the grants.gov Web site. Applicants planning to apply electronically are encouraged to begin the process of registration on the grants.gov Web site well in advance of the submission deadline. Registration is a multi-step process, which may take several weeks to complete before an application can be submitted.

FOR FURTHER INFORMATION CONTACT: Please address questions concerning this Notice to David B. Horner, Deputy Assistant Secretary for Transportation Policy, U.S. Department of Transportation, at 202-689-4464 (or by e-mail at david.horner@dot.gov). Please address technical questions concerning project development to Thomas M. McNamara at 202-366-4462 (or by e-mail at thomas.mcnamara@dot.gov).

SUPPLEMENTARY INFORMATION:

A. Background

Crisis of Congestion. Traffic congestion affects people in nearly every aspect of their daily lives—where they live, where they work, where they shop, and how much they pay for goods and services. According to 2005 figures, in certain metropolitan areas the average rush hour driver loses as many as 60 hours per year to travel delay—the equivalent of one and a half full work weeks, amounting annually to a “congestion tax” of approximately $1,200 per peak time traveler in wasted time and fuel. ² Nationwide, congestion imposes costs on the economy of at least $78 billion per year. ³ The costs of congestion are higher, however, after taking into account the significant cost of unreliability to drivers and businesses, the environmental impacts of idle-related auto emissions, increased gasoline prices and the immobility of labor markets that result from congestion, all of which substantially affect interstate commerce.

² Texas Transportation Institute (“TTI”), 2007 Urban Mobility Report, September 2007.

³ TTI, 2007 Urban Mobility Report.

Traffic congestion also has a substantial negative impact upon the quality of life of many American families. In a 2005 survey, for example, 52% of Northern Virginia commuters reported that their travel times to work had increased in the past year,⁴ leading 70% of working parents to report having insufficient time to spend with their children and 63% of respondents to report having insufficient time to spend with their spouses.⁵ Nationally, in a 2005 survey conducted by the National League of Cities, 35% of U.S. citizens reported traffic congestion as the most deteriorated living condition in their cities over the past five years; 85% responded that traffic congestion was as bad as, or worse than, it was in the previous year.⁶ Similarly, in a 2001 survey conducted by the U.S. Conference of Mayors, 79% of Americans from ten metropolitan areas reported that congestion had worsened in the prior five years; 50% believe it has become “much worse.” ⁷

⁴ Northern Virginia Transportation Alliance 2005 Survey (http://www.nvta.org/content.asp?contentid=1174).

⁵ Virginia Department of Transportation.

⁶ National League of Cities survey of cities (2005).

⁷ U.S. Conference of Mayors survey on traffic congestion (2001).

Solicitation. This Notice solicits proposals to enter into certain agreements with the U.S. Department of Transportation (the “Department”). Through these agreements, the Department intends to support congestion pricing along with complementary transportation solutions proposed by jurisdictions designated as recipients of Federal assistance in accordance with this Notice (each, a “qualified jurisdiction”). Funds made available by the Department to qualified jurisdictions may include such sums as may be available for obligation in the Department's discretion during Fiscal Year 2008, including funds designated by law to support the Department's Congestion Initiative, as proposed in the President's Fiscal Year 2008 Budget.⁸

⁸ Budget of the United States Government, Fiscal Year 2008 (http://www.whitehouse.gov/omb/budget/fy2008/transportation.html).

The Department expects to award funding only for those proposals that integrate innovative transit strategies, new transportation technologies and direct highway pricing during congested periods. In return for their agreement to adopt such strategies, the Department will support qualified jurisdictions with financial resources identified in this Notice, regulatory flexibility, and dedicated expertise and personnel. Because the Secretary generally allocates discretionary highway grant funds to State DOTs, applicants that are non-State DOTs applying for discretionary highway funds made available under any of the specified Funding Programs should partner with or submit an application through the State DOT for these funds.

B. Funding Programs

The Department proposes to support qualified jurisdictions through the following programs:

(i) FHWA's Delta Region Program. The Department may obligate all or part of such sums available for obligation in its discretion under the Delta Region Program in Fiscal Year 2008 to support eligible projects sponsored by qualified jurisdictions. Under section 1308 of the Safe, Accountable, Flexible, Efficient Transportation Equity Act: A Legacy for Users (or “SAFETEA-LU”) (Pub. L. 109-59, August 10, 2005), the FHWA Administrator, acting on behalf of the Secretary, may fund projects that support and encourage multi-state transportation planning and corridor development, provide for transportation project development, facilitate transportation decision making, and support transportation construction in the 240 counties and parishes within the eight states comprising the Delta Regional Authority's region (Alabama, Arkansas, Illinois, Kentucky, Louisiana, Mississippi, Missouri, and Tennessee). Eligible projects must either (a) traverse more than one State and carry interstate commerce or (b) have been identified by the Delta Regional Authority as highways of regional significance, (i.e., on or expected to be on the Delta Development Highway System).

Applicants must address the standard requirements for an application to the Delta Region Transportation Development Program as described in last year's request for applications, found at http://www.fhwa.dot.gov/planning/s1308fy07drtdp.htm. The application procedures and deadlines provided in this Notice supersede those set forth in the forgoing hyperlink.

(ii) FHWA's Ferry Boat Program. The Department may obligate all or part of such sums available for obligation in its discretion under the Ferry Boat Program in Fiscal Year 2008 to support eligible projects sponsored by qualified jurisdictions. Under section 1801 of SAFETEA-LU, the FHWA Administrator, acting on behalf of the Secretary, may fund projects that involve the construction of ferry boats and ferry terminal facilities in accordance with 23 U.S.C. 147.

Ferry Boat Program Funds are available for construction/improvement to ferry boats or ferry boat terminals where, among other things: (a) It is not feasible to build a bridge, tunnel, combination thereof, or other normal highway structure in lieu of the use of such ferry; (b) the operation of the ferry shall be on a route classified as a public road within the State or Territory and which has not been designated as a route on the Interstate System; and (c) such ferry boat or ferry terminal facility shall be publicly owned or operated or majority publicly owned if the Secretary determines, with respect to a majority publicly owned ferry or ferry terminal facility, that such ferry boat or ferry terminal facility provides substantial public benefits. Eligible projects may include either ferry boats that carry both cars and passengers, or ferry boats carrying passengers only.

Applicants must address the standard requirements for an application to the Ferry Boat Program found at: http://www.fhwa.dot.gov/discretionary/fbdinfo.cfm. The application procedures and deadlines provided in this Notice supersede those set forth in the forgoing hyperlink.

(iii) FHWA's HfL Program. The Department may obligate all or part of such sums available for obligation in its discretion under the HfL Program in Fiscal Year 2008 to support eligible projects sponsored by qualified jurisdictions. Under section 1502 of SAFETEA-LU, the FHWA Administrator, acting on behalf of the Secretary, may fund projects otherwise eligible for assistance under chapter 1 of title 23, United States Code that, among other things, (a) use innovative technologies, manufacturing processes, financing or contracting methods that improve safety, reduce congestion due to construction, and improve quality, and (b) constructs, reconstructs or rehabilitates a route or connection on an eligible Federal-aid highway.

Applicants must address the standard requirements for an application to the HfL Program as described in an earlier solicitation for projects, found at http://www.fhwa.dot.gov/hfl/application_memo.cfm. The application procedures and deadlines provided in this Notice supersede those set forth in the forgoing hyperlink.

(iv) FHWA's Innovative Bridge Program. The Department may obligate all or part of such sums available for obligation in its discretion under the Innovative Bridge Program in Fiscal Year 2008 to support eligible projects sponsored by qualified jurisdictions. Under section 5202(b) of SAFETEA-LU, the FHWA Administrator, acting on behalf of the Secretary, may fund projects that promote, demonstrate, evaluate, and document the application of innovative designs, materials, and construction methods in the construction, repair, and rehabilitation of bridge and other highway structures, for purposes including—but not limited to—increasing safety and reducing construction time and traffic congestion. Detailed Innovative Bridge Program goals are identified in 23 U.S.C. 503(b)(2). Eligible projects may be on any public roadway, including State and locally funded projects. Funds may be used for costs of preliminary engineering, repair, rehabilitation, or construction of bridges or other highway structures, and costs of project performance evaluation and performance monitoring of the structure following construction.

Applicants must address the standard requirements for an application to the Innovative Bridge Program found at http://www.fhwa.dot.gov/bridge/ibrd/032807.cfm. The application procedures and deadlines provided in this Notice supersede those set forth in the forgoing hyperlink.

(v) FHWA's IMD Program. The Department may obligate all or part of such sums available for obligation in its discretion under the IMD Program in Fiscal Year 2008 to support eligible projects sponsored by qualified jurisdictions. Under 23 U.S.C. 118(c), the FHWA Administrator, acting on behalf of the Secretary, may fund projects that involve resurfacing, restoration, rehabilitation and reconstruction (“4R”) work, including added lanes to increase capacity, on most existing Interstate System routes. Ineligible projects include those that are located on (a) any highway designated as a part of the Interstate System under 23 U.S.C. 139, as in effect before the enactment of TEA-21, (b) any toll road on the Interstate System not subject to an agreement under 23 U.S.C. 119(e), as in effect on December 17, 1991, or (c) any highway added to the Interstate System under 23 U.S.C. 103(c)(4) and section 1105(e)(5)(A) of the Intermodal Surface Transportation Efficiency Act of 1991. Any proposed or future Interstate route is also not eligible for IMD funds. A full listing of the statutory criteria for eligibility of IMD projects is provided in 23 U.S.C. 118(c).

Applicants must address the standard requirements for an application to the Interstate Maintenance Program found at http://www.fhwa.dot.gov/discretionary/imdinfo.cfm. The application procedures and deadlines provided in this Notice supersede those set forth in the forgoing hyperlink.

(vi) FHWA's Public Lands Program. The Department may obligate all or part of such sums available for obligation in its discretion under the Public Lands Program in Fiscal Year 2008 to support eligible projects sponsored by qualified jurisdictions. Under 23 U.S.C. 204(b)(5), the FHWA Administrator, acting on behalf of the Secretary, may fund “any kind of transportation project eligible for assistance under title 23, United States Code, that is within, adjacent to, or provides access to” Federal lands or facilities. Under the provisions of 23 U.S.C. 204(b)(1)(A), Public Lands Program funds are available for transportation planning, research, engineering, and construction of the highways, roads, and parkways, and of transit facilities within the Federal public lands. Under the provisions of 23 U.S.C. 204(b)(1)(B), Public Lands Program funds are also available for operation and maintenance of transit facilities located on Federal public lands.

Applicants must address the standard requirements for an application to the Public Lands Program found at http://www.fhwa.dot.gov/discretionary/plhcurrsola3.cfm. The application procedures and deadlines provided in this Notice supersede those set forth in the forgoing hyperlink.

(vii) FHWA's TCSP Program. The Department may obligate all or part of such sums available for obligation in its discretion under the TCSP Program in Fiscal Year 2008 to support eligible projects sponsored by qualified jurisdictions. Under section 1117 of SAFETEA-LU, the FHWA Administrator, acting on behalf of the Secretary, may fund planning grants, implementation grants, and research to investigate and address the relationships between transportation, community, and system preservation and to identify private sector-based initiatives to improve such relationships.

States, metropolitan planning organizations (“MPOs”), local governments (including, but not limited to, towns, cities, public transit agencies) and tribal governments are eligible for TCSP Program discretionary grants. Non-governmental organizations that have projects they wish to see funded under this program are encouraged to partner with an eligible recipient as the project sponsor. Activities eligible for TCSP Program funding include activities that are eligible for Federal highway and transit funding (title 23, U.S.C., or Chapter 53 of title 49, U.S.C.) or other activities determined by the Secretary to be appropriate. Grants may be used to plan and implement strategies which improve the efficiency of the transportation system, reduce environmental impacts of transportation, reduce the need for costly future public infrastructure investments, ensure efficient access to jobs, services and centers of trade, and examine development patterns and identify strategies to encourage private sector development patterns which achieve these goals.

Applicants must address the standard requirements for an application to the TCSP Program found at http://www.fhwa.dot.gov/tcsp/pi_tcsp.htm. The application procedures and deadlines provided in this Notice supersede those set forth in the forgoing hyperlink.

(viii) FHWA's Truck Parking Program. The Department may obligate all or part of such sums available for obligation in its discretion under the Truck Parking Program in Fiscal Year 2008 to support eligible projects sponsored by qualified jurisdictions. As directed by section 1305 of SAFETEA-LU, the Secretary established a pilot program to address the shortage of long-term parking for commercial motor vehicles on the National Highway System. States, MPOs and local governments are eligible to receive discretionary grants available under this pilot program. Section 1305 allows for a wide range of eligible projects, ranging from construction of spaces and other capital improvements to using intelligent transportation systems (ITS) technology to increase information on the availability of both public and private commercial vehicle parking spaces. Please note that applications to the Truck Parking Program with respect to “Corridors of the Future” may receive priority in consideration and funding under the program.

(ix) FTA's Bus Program. The Department may obligate all or part of such sums available for obligation in its discretion under the Bus Program in Fiscal Year 2008 to support eligible projects sponsored by qualified jurisdictions. Under 49 U.S.C. 5309, the Administrator of FTA, acting on behalf of the Secretary, may provide capital assistance for the acquisition of buses and bus-related equipment or facilities. Only capital projects that are eligible under the Bus Program and that improve existing transit service or provide new transit service in a corridor or area that is part of a congestion reduction demonstration shall be eligible for funding pursuant to this Notice.

Costs of a project eligible for funding under the Bus Program include the acquisition of buses for fleet and service expansion, bus maintenance and administrative facilities, transfer facilities, bus malls, transportation centers, inter-modal terminals, park-and-ride stations, acquisition of replacement vehicles, bus rebuilds, passenger amenities such as passenger shelters and bus stop signs, accessory and miscellaneous equipment such as mobile radio units, supervisory vehicles, fare boxes, computers and shop and garage equipment. Applicants must address FTA's standard requirements for an application for Section 5309 capital program assistance found in FTA's Circular C 9300.1A “Capital Program: Grant Application Instructions” ⁹ and FTA's Circular C 5010.1C “Grant Management Guidelines.” ¹⁰

⁹ See http://www.fta.dot.gov/funding/grants/grants_financing_3557.html.

¹⁰ See http://www.fta.dot.gov/laws/circulars/leg_reg_4114.html.

(x) FTA's Small Starts Program. The Department may obligate all or part of such sums available for obligation in its discretion under the Small Starts Program in Fiscal Year 2008 to support eligible projects sponsored by qualified jurisdictions. Under 49 U.S.C. 5309, the Administrator of FTA, acting on behalf of the Secretary, may provide up to $75 million per project for qualifying fixed guideway capital projects, including certain bus rapid transit projects. Pursuant to its guidance on the Small Starts Program,¹¹ FTA will facilitate worthy projects that are part of comprehensive congestion-reduction strategies, including strategies that incorporate congestion pricing. In its evaluation of projects proposed for funding under Small Starts pursuant to this Notice, an applicant's designation as a qualified jurisdiction will be an “other factor” taken into account by the FTA pursuant to 49 U.S.C. 5309(e)(4)(E).

¹¹ Please see the terms of the Small Starts program set forth in the Guidance on Small Starts at http://a257.g.akamaitech.net/7/257/2422/01jan20071800/edocket.access.gpo.gov/2007/pdf/07-2774.pdf.

(xi) FTA's Alternatives Analysis Program. The Department may obligate all or part of such sums available for obligation in its discretion under the Alternatives Analysis Program in Fiscal Year 2008 to support eligible projects sponsored by qualified jurisdictions. Under 49 U.S.C. 5339, the FTA Administrator, acting on behalf of the Secretary, may fund projects that support technical work conducted within an alternatives analysis, in which one of the alternatives is a major transit capital investment. FTA will give priority to proposals to develop and apply methods to estimate the time savings experienced by highway users that result from transit investments.

Applicants must address the standard requirements for an application to the Alternatives Analysis Program found in notice describing the Alternatives Analysis Program at http://a257.g.akamaitech.net/7/257/2422/01jan20071800/edocket.access.gpo. gov/2007/pdf/E7-4830.pdf. The application procedures and deadlines provided in this Notice supersede those set forth in the forgoing hyperlink.

(xii) Other Assistance. Under the Department's Private Activity Bond Program, the Department may allocate to qualified jurisdictions authority to issue private activity bonds for qualified projects in order to lower their cost of capital. As of the date of this Notice, the Department may allocate up to $9.5 billion in private activity bond authority not already allocated or applied for.

Under the Transportation Infrastructure Finance and Innovation Act (“TIFIA”), the Department may provide qualified jurisdictions direct loans, loan guarantees, and standby lines of credit for qualified projects. TIFIA allows for the support of approximately $10 billion in credit assistance.

The Department may provide qualified jurisdictions the authority to institute tolls on portions of their Interstate systems¹² and expedite project delivery by waiving certain FHWA regulations (in accordance with FHWA's Special Experimental Project (or “SEP-15”) program or as otherwise permitted by law), and placing key projects on the Environmental Stewardship Executive Order,¹³ allowing for the streamlining of some aspects of the environmental review process. Finally, the Department may offer extensive technical expertise and advice from world class engineers and economists.

¹² As enacted by SAFETEA-LU, the High Occupancy Vehicle (“HOV”) Facilities Program (23 U.S.C. 166) allows States and localities to convert HOV lanes to high Occupancy toll (“HOT”) lanes which allow low-occupant vehicle users to pay for the chance to travel on underutilized HOV lanes, shifting traffic from congested regular lanes to HOV lanes, while maintaining free-flowing travel speeds and vehicle throughput performance for all vehicles in the HOV lanes. When operated in parallel with general purpose lanes, HOT lanes offer drivers an option to pay for congestion-free predictable trips when they need it the most, while improving the performance of general purpose lanes. Consistent with 23 U.S.C. 166, FTA has recently published proposed guidance that, once adopted as final, would eliminate certain existing disincentives to jurisdictions to convert their HOV lanes to HOT lanes. In particular the proposed guidance describes the terms and conditions on which FTA would classify HOV lanes that are converted to HOT lanes as “fixed guideway miles” for purposes of the transit funding formulas administered by FTA. See “Policy Statement on When High-Occupancy Vehicle Lanes Converted to High-Occupancy/Toll Lanes Shall Be Classified as Fixed Guideway Miles for FTA's Funding Formulas and When HOT Lanes Shall Not Be Classified as Fixed Guideway Miles for FTA's Funding Formulas” (http://a257.g.akamaitech.net/7/257/2422/01jan20061800/edocket.access.gpo.gov/2006/pdf/E6-14796.pdf).

¹³ See Executive Order 13274: Environmental Stewardship and Transportation Infrastructure Project Reviews (September 18, 2002) at http://environment.fhwa.dot.gov/strmlng/eo091802.asp.

C. Application Process

Applications to become qualified jurisdictions must be submitted on or before December 31, 2007 (with late-filed applications being considered to the extent practical).

The Department expects to sign agreements with qualified jurisdictions, once designated, as soon as possible thereafter. The Department expects implementation or pre-implementation efforts for the proposed congestion reduction activities to commence shortly after an agreement (or series of agreements) with the qualified jurisdiction is signed.

While the applicant for consideration as a qualified jurisdiction must be a public body, signatories to an agreement concerning congestion-reducing projects may include city and county governments, metropolitan planning organizations, State transportation departments, chambers of commerce, academic institutions, citizen advisory groups, or other responsible organizations that seek to resolve major congestion problems (any of whom may apply to become a qualified jurisdiction).

The Department shall deem a single application filed pursuant to this Notice to be an application properly filed with each of the Funding Programs. Separate applications to specific Funding Programs shall not be required.

D. Contents of Application

An application to become a qualified jurisdiction should briefly describe, with respect to the metropolitan area proposed, (i) why its traffic congestion is severe, (ii) the local public's acknowledgement of the problem, (iii) the readiness of the metropolitan area's political leadership to solve the problem and (iv) a solution to congestion that integrates innovative transit strategies, new transportation technologies and direct highway pricing during congested periods. In addition, an application should be responsive to the specifications and criteria set forth below. The Department recognizes that information provided in an application to become a qualified jurisdiction may be preliminary and incomplete. The Department, in its discretion, may ask certain applicants to supplement the data in their applications to the extent practical.

(i) Length of Applications: An application should not exceed 40 pages in length, including both the proposal details and appendix materials. Appendix materials may include maps of roadways and other affected facilities (such as bridges and parallel routes) and maps of BRT routes and other transit services or facilities that are directly involved.

(ii) Participating Parties: An application should provide a preliminary, non-binding list of the parties likely to participate in the agreement between a qualified jurisdiction and the Department.

(iii) Comprehensive Congestion Reduction Strategy: An application should generally describe the metropolitan area's proposed comprehensive congestion reduction strategy, and explain how different parts of that strategy, if any, would interact to reduce congestion.

(iv) Congestion Pricing Measures and Affected Areas: An application should describe the role pricing would play in the congestion reduction strategy. To the extent practical, an application should indicate, in specific terms, how traffic would be affected, what areas or routes would be priced, how congestion prices would be determined, and which vehicle categories would be affected (e.g., single occupant vehicles or all vehicles).

(v) Transit Services: An application should describe transit services, including BRT and other commuter transit services that are to be provided or supplemented, and the expected impacts of the expanded transit services on congestion. The application should also describe transit fare pricing policies to be adopted with the objective of increasing traveler throughput during peak traffic periods, while avoiding excessive congestion in the transit system.

(vi) Use of Technology: An application should clearly indicate the extent to which a locality plans to operationally test innovative technology in achieving its congestion reduction targets.

(vii) Expedited Project Completion: An application should indicate any major transportation projects or project components that are sought to be expedited through an agreement with the Department. The application should also indicate the expected effects on congestion from early completion of these projects.

(viii) Travelers Affected Daily: An application should indicate the estimated number of daily travelers that will be directly affected by priced facilities and by other measures expected to be adopted by the qualified jurisdiction. This should include the estimated number of persons (vehicles) that will pay congestion charges, as well as the likely number diverted to other travel times, routes, or other transportation services, such as transit.

(ix) Research, Planning, and Experience To Date: An application should indicate the prior work that participating parties (e.g., the candidate city or other jurisdictions) have already done to reduce congestion, including research, planning, and actual implementation of congestion related activities in the metropolitan area.

(x) Other Time-Frame Considerations: An application should indicate the dates during which applicants expect to conduct congestion reduction activities (e.g., a six-month trial from June 30, 2008 until December 31, 2008). If the applicant expects the activities to continue indefinitely, the application should indicate this fact. Similarly, if the pricing activity is adopted on a temporary, experimental basis and the applicant expects it to be voted on by citizens of the jurisdictions participating in an agreement with the Department or otherwise considered for continuation, the application should provide this information.

(xi) Funding Support: An application should indicate the estimated cost to implement the overall congestion reduction strategy. An application should also indicate the anticipated sources of those funds, including the amount requested to be covered by Federal sources.

(xii) Contact Information: An application should clearly indicate contact information, including name, organization, address, phone number, and e-mail address. The Department will use this information to inform parties of the Department's decision regarding selection of interested parties, as well as to contact parties in the event that the Department needs additional information about an application.

E. Evaluation Criteria

The Department will review and consider applications upon receipt, and will consider a variety of factors in reviewing applications seeking funding, including:

(i) The extent to which the congestion reduction plan is reasonably projected to reduce congestion from current levels on major highways and arterial facilities within the demonstration area, as measured by projected travel speeds, “levels of service” or other objective measures of performance during the hours when the congestion reduction demonstration is in effect;

(ii) The extent to which the congestion reduction plan is reasonably projected to enable improvements in transit service on major highways and arterial facilities within the demonstration area, as measured by projected reductions from current levels in scheduled running times or intervals between departures or other objective measures of performance during the hours when the congestion reduction plan is in effect;

(iii) The extent to which the congestion reduction plan demonstrates innovative and potentially far-reaching technology applications;

(iv) The project's national demonstration value; and

(v) The technical feasibility and political probability of the project being implemented in the near term.

The Department reserves the right to solicit candidates for agreements described herein by means other than this Notice. The Department expects to implement the procedures and criteria set forth in this Notice; however, such procedures and criteria shall not be binding on the Department.

Issued in Washington, DC on November 5, 2007.
D.J. Gribbin,
General Counsel, U.S. Department of Transportation.

[FR Doc. E7-22117 Filed 11-9-07; 8:45 am]

BILLING CODE 4910-9X-P